ENVIRONMENTAL PROTECTION AGENCY

[FRL -7538-5]

Science Advisory Board Staff Office; Notification of Upcoming Science Advisory Board Meeting of the Computational Toxicology Framework Consultation Panel

AGENCY: Environmental Protection Agency (EPA).

ACTION: Notice.

SUMMARY: The EPA's Science Advisory Board (SAB) Staff Office is announcing a public meeting of the SAB's Computational Toxicology Framework Consultation Panel (CTF) that will conduct a consultation with the Agency on its Computational Toxicology Framework.

DATES: September 12, 2003—The public meeting for the SAB Panel will begin at 9 a.m. and adjourn no later than 5:30 p.m. (eastern time).

ADDRESSES: The public meeting of the Panel will be held in the Washington, DC, metropolitan area. The final meeting site will be announced, along with the agenda and final charge questions, on the SAB Web site http://www.epa.gov/sab/agendas.htm ten days before the meeting. For further information concerning the public meeting, please contact Dr. James Rowe, Designated Federal Officer (DFO) (see contact information below).

FOR FURTHER INFORMATION CONTACT: Any member of the public wishing further information regarding the public meeting may contact Dr. James Rowe, Designated Federal Officer (DFO), U.S. EPA Science Advisory Board Staff Office (1400A), 1200 Pennsylvania Avenue, NW., Washington, DC 20460, telephone/voice mail: (202) 564-6488, Fax (202) 501-0582, or via e-mail at rowe.james@epa.gov. Requests to present oral comments must be in writing (e-mail, fax, or mail) and received by Dr. Rowe no later than noon eastern time on September 5, 2003. General information about the SAB can be found in the SAB Web site at http://www.epa.gov/sab.

SUPPLEMENTARY INFORMATION: Summary: Pursuant to the Federal Advisory Committee Act, Public Law 92-463, Notice is hereby given that the Panel will hold a public meeting to provide advice to the EPA on the Agency's Computational Toxicology Framework. The date and time for the meeting are provided above.

Background: Background on the Panel and the focus of the meeting described in this notice was provided in a Federal Register notice published on April 30, 2003 (68 FR 23131-23132). A draft document, “A Framework for a Computational Toxicology Research Program at ORD” can be found on the EPA Web site at http://www.epa.gov/nheerl.

Availability of Meeting Materials: Copies of any available meeting materials, including a draft agenda, will be posted on the SAB Web site for this panel at http://www.epa.gov/sab/panels/ctfcpanel.html approximately 10 days before the meeting.

Providing Oral or Written Comments at SAB Meetings: It is the policy of the EPA Science Advisory Board (SAB) Staff Office to accept written public comments of any length, and to accommodate oral public comments whenever possible. The EPA SAB Staff Office expects that public statements presented at its meetings will not be repetitive of previously-submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although written comments are accepted until the date of the meeting (unless otherwise stated), written comments should be received in the SAB Staff Office at least one week prior to the meeting date so that the comments may be made available to the committee for their consideration. Comments should be supplied to Dr. Rowe at the address/contact information noted above in the following formats: One hard copy with original signature, and one electronic copy via e-mail (acceptable file format: Adobe Acrobat, WordPerfect, Word, or Rich Text files (in IBM-PC/Windows 95/98 format)). Those providing written comments and who attend the meeting are also asked to bring 35 copies of their comments for public distribution.

Meeting Accommodations: Individuals requiring special accommodation to access the public meetings listed above, should contact Dr. Rowe at least five business days prior to the meeting so that appropriate arrangements can be made.

Dated: July 24, 2003.
Vanessa T. Vu,
Director, EPA Science Advisory Board Staff Office.

[FR Doc. 03-19637 Filed 7-31-03; 8:45 am]

BILLING CODE 6560-50-P